DEPARTMENT OF TRANSPORTATION

Federal Transit Administration

Intent To Prepare an Environmental Impact Statement for Expansion of Light Rail Transit Service From Glassboro, NJ to Camden, NJ

AGENCY: Federal Transit Administration (FTA), DOT.

ACTION: Notice of Intent to prepare an Environmental Impact Statement.

SUMMARY: FTA, in coordination with the Delaware River Port Authority (DRPA)/Port Authority Transit Corporation (PATCO), is issuing this Notice of Intent (NOI) to advise the public that it proposes to prepare an Environmental Impact Statement (EIS) to assess the potential environmental impacts associated with the construction and operation of the Glassboro-Camden Line (GCL) light rail system, as well as assess and document a No-Action Alternative and a Transportation System Management (TSM) Alternative. The proposed GCL system is approximately 18 miles long and would operate between the Borough of Glassboro in Gloucester County and the City of Camden in Camden County along, and primarily within, the existing Conrail railroad right-of-way. Light Rail technology along this alignment was selected as the Recommended Alternative based on a two-year Alternatives Analysis completed by DRPA/PATCO in 2009.

FTA is issuing this notice to solicit public and agency input regarding the scope of the EIS and to advise the public and agencies that outreach activities conducted by DRPA/PATCO and its representatives will be considered in the preparation of the EIS. FTA is the lead federal agency for the environmental review, with DRPA/PATCO as the joint lead agency.

DATES: Written comments on the scope of the EIS, including the project's purpose and need, the alternatives to be considered, and the impacts to be evaluated should be sent to DRPA on or before June 10, 2010. See ADDRESSES below for the address to which written comments may be sent. Oral comments on the scope of the EIS can be made at Public Scoping Meetings on the following dates:

• Thursday, May 6, 2010 at Camden County College—Camden Technology Center, 200 North Broadway, Camden, NJ 08102 from 5:30 to 8:30 p.m.

• Tuesday, May 11, 2010 at Rowan University (Henry M. Rowan Bldg.), 201 Mullica Hill Road, Glassboro, NJ 08028 from 1:30 to 4:30 p.m.

• Tuesday, May 11, 2010 at Rowan University (Henry M. Rowan Bldg.), 201 Mullica Hill Road, Glassboro, NJ 08028 from 5:30 to 8:30 p.m.

An informational session explaining the proposed project will occur during the first hour of each meeting, followed by the opportunity for the public and/or agency representatives to provide oral comments on the scope of the EIS. Those individuals wishing to speak at the meetings are required to register at the particular meeting location on the day of that meeting. Anyone who requires special assistance at a scoping meeting should contact Ms. Victoria Malaszecki, Public Involvement Coordinator at (856) 223-0800, via e-mail at publicinvolvement@GlassboroCamdenLine.com, or at the address listed below at least 3 days prior to the meeting.

An agency scoping meeting will be held on Monday, May 3, 2010 at 2 p.m., at DRPA, One Port Center, 2 Riverside Drive, Camden, NJ. Representatives from federal, state, regional, tribal, and local agencies that may have an interest in the project will be invited to serve as either participating or cooperating agencies.

ADDRESSES: Comments will be accepted orally at the public scoping meetings, or they may be sent to Ms. Victoria Malaszecki, Public Outreach Liaison, Envision Consultants, Ltd. by mail at PO Box 536, Mullica Hill, NJ 08062, by fax (856)-223-8886, or by e-mail at publicinvolvement@GlassboroCamdenLine.com. The addresses of the scoping meetings are listed above under DATES.

FOR FURTHER INFORMATION CONTACT: Either Mr. Keith Lynch, Project Advisor, Federal Transit Administration, 1716 Market Street, Suite 500, Philadelphia, PA 19103 or (215) 656-7056; or Mr. Michael Venuto, Project Manager, Delaware River Port Authority, One Port Center, 2 Riverside Drive, Camden, NJ 08101 or (856) 968-2079.

Additional project information and scoping materials will be available at the meetings and on the project Web site (http://www.GlassboroCamdenLine.com).

SUPPLEMENTARY INFORMATION:

I: Scoping

FTA and DRPA/PATCO will undertake a scoping process that will allow the public and interested agencies to comment on the scope of the environmental review process. Scoping is the process of determining the scope, focus, and content of an EIS. NEPA scoping has specific objectives, identifying the significant issues that will be examined in detail during the EIS, while simultaneously limiting consideration and development of issues that are not truly significant. FTA and DRPA/PATCO invite all interested individuals and organizations, public agencies, and Native American tribes to comment on the scope of the Draft EIS. To facilitate public and agency comment, a Draft Scoping Document will be prepared for review. Included in this document will be draft descriptions of: The purpose and need for the project; the alternatives to be studied; the impacts to be assessed; and the public outreach and agency coordination process.

II: Proposed Purpose and Need

The purpose of this project is to improve transit service along the Glassboro to Camden corridor in southern New Jersey with a focus on increasing mobility and improving links between the established communities and activity centers.

The Glassboro to Camden corridor is characterized by older, densely populated communities that developed along the rail line, as well as by major employment and activity centers including universities, medical centers and other institutions. However, connections between these activity centers and the people who access them are not efficient and travel along the corridor is difficult. With regard to transit service especially, the corridor lacks competitive and reliable transit options between the major communities and activity centers.

Trips along the corridor are primarily made by car. Major roadways experience congestion during peak hours, and even greater travel demands are predicted for the future in Gloucester and Camden counties, associated with growth in population and employment. This growth will contribute to continued increases in vehicle miles of travel, air pollutants and greenhouse gases, and travel times. In addition, this auto dependence has contributed to and continues to encourage development “sprawl” into open space and agricultural land, requiring new supporting infrastructure, and does not encourage growth in the established communities as promoted by state and local “Smart Growth” initiatives.

The proposed 18-mile GCL traverses established communities and would provide a new reliable transit system competitive with auto travel, linking activity centers, employment destinations and established residential areas. This reliability and competitiveness would encourage a modal shift from auto to transit, and contribute to reduced congestion, vehicle miles of travel, air pollutants and greenhouse gases, and travel times. Aligning the GCL with the existing Conrail railroad right-of-way would minimize property acquisition and take advantage of an underutilized transportation corridor. Moreover, its location amid established communities would encourage growth and economic development consistent with “Smart Growth” programs and policies at the local, State, and regional level.

III: Proposed Alternatives

The alternatives expected to be included in the EIS include:

No Action Alternative: The No Action Alternative represents future conditions in the EIS analysis year of 2035 without the GCL Project. The No Action Alternative includes the existing transit and transportation system in southern New Jersey plus planned improvements for which the need, commitment, financing and public and political support have been identified, and which may reasonably be expected to be implemented. This Alternative is included in the Draft EIS as a means of comparing and evaluating the impacts and benefits of the GCL alternatives.

Transportation System Management (TSM) Alternative: The TSM alternative consists of enhancements and upgrades to the existing transportation system to address some of the needs and purpose of the project at less capital cost. These upgrades can include bus route restructuring and headway reductions, express and limited-stop service, intersection improvements, and other limited infrastructure improvements that enhance the transportation system. The specific combination of improvements to be incorporated into the TSM will be developed during the EIS process.

Light Rail Alternative: Based on the results of the 2009 Alternatives Analysis of transit options, light rail service from Glassboro to Camden was selected as the Recommended Alternative to provide expanded transit service in Gloucester and Camden counties, New Jersey. This alternative will be the focus of the Draft EIS assessment and documentation.

The Light Rail Alternative would traverse the communities of Glassboro, Pitman, Sewell, Mantua Township, Deptford Township, Wenonah, Woodbury Heights, Woodbury, Westville, Brooklawn, Gloucester City, and Camden. The new line would primarily run along Conrail's freight alignment, which is roughly parallel to Woodbury-Glassboro Road and NJ Route 45. The northern segment in Camden would follow a new right-of-way adjacent to I-676 before entering an in-street alignment to reach Walter Rand Transportation Center where riders could transfer to the PATCO Lindenwold Line and the NJ TRANSIT River Line.

The Light Rail Alternative would use diesel-powered light rail vehicles, operating on new dedicated tracks and/or sharing portions of Conrail track with temporal separation. Approximately fourteen (14) new stations would be located along the alignment.

IV: Probable Effects

FTA and DRPA/PATCO will evaluate both project-specific as well as indirect and cumulative effects to the existing physical, social, economic and environmental setting in which the GCL will be located. The permanent, long-term effects to the region could include effects to traffic and transportation; land use and socioeconomics; visual character and aesthetics; noise and vibration; historical and archaeological resources; community impacts; and natural resources. Temporary impacts during construction of the project could include effects to air quality; noise and vibration; natural resources; and contaminated and hazardous materials.

The analysis will be undertaken in conformity with NEPA, Council on Environmental Quality regulations, FTA guidance and relevant environmental guidelines, Section 106 of the National Historic Preservation Act, section 4(f) of the DOT Act, Executive Order 12898 regarding minority and low-income populations, the Clean Water Act and the Clean Air Act of 1970, along with other applicable Federal and State regulations. Opportunities for comment on the potential effects to be studied will be provided to the public, and comments received will be considered in the development of the final scope and content of the environmental documents.

V: Public and Agency Involvement Procedures

The regulations implementing NEPA, as well as provisions of the Safe, Accountable, Flexible, Efficient Transportation Equity Act: A Legacy for Users (SAFETEA-LU), call for public involvement in the EIS process. In accordance with Section 6002 of SAFETEA-LU, FTA and DRPA/PATCO will: (1) Extend an invitation to other Federal and non-Federal agencies and Native American Tribes that may have an interest in the proposed project to become participating agencies (any interested party that does not receive an invitation to become a participating agency can notify any of the contact persons listed earlier in this NOI); (2) Provide opportunity for involvement by participating agencies and the public to help define the purpose and need for the proposed project, as well as the range of alternatives for consideration in the EIS; and (3) Establish a plan for coordinating public and agency participation in, and comment on, the environmental review process.

A Public Involvement Plan and an Agency Coordination Plan will be developed outlining public and agency involvement for the project. These will be available on the project Web site or through written request. Opportunities for comment will be provided throughout the EIS process, including public and agency meetings, the project Web site, a mailing address, and a phone information line. Comments received from any of these sources will be considered in the development of the final scope and content of the environmental documents.

VI. Summary/Next Steps

With the publication of this NOI, the scoping process for the project begins. After the publication of the Draft Scoping Document, a public comment period will begin, allowing the public to offer input on the scope of the EIS until June 10, 2010. Public comments will be received through those methods explained earlier in this NOI and will be incorporated into a Final Scoping Document. This document will detail the scope of the EIS and the potential environmental effects that will be considered during the study period. After the completion of the Draft EIS, another public commenting period will allow for input on the EIS, and these comments will be incorporated into the Final EIS report before publication.

Issued on: April 12, 2010.
Letitia A. Thompson,
FTA Region III Administrator.

[FR Doc. 2010-8965 Filed 4-16-10; 8:45 am]

BILLING CODE 4910-57-P